DEPARTMENT OF COMMERCE

Bureau of Industry and Security

[Docket No. 050518134-5134-01]

National Defense Stockpile Market Impact Committee Request for Public Comments on the Potential Market Impact of Revised Stockpile Disposal Levels for FY 2006

AGENCY: U.S. Department of Commerce.

ACTION: Notice of inquiry.

SUMMARY: This notice is to advise the public that the National Defense Stockpile Market Impact Committee, co-chaired by the Departments of Commerce and State, is seeking public comments on the potential market impact of proposed changes in the disposal levels of excess Chromium Metal, Ferrochromium, and Tungsten ores and concentrates under the Fiscal Year (FY) 2006 Annual Materials Plan (AMP).

DATES: Comments must be received by June 27, 2005.

ADDRESSES: Written comments should be sent to either William J. Denk, Co-chair, National Defense Stockpile Market Impact Committee, Office of Strategic Industries and Economic Security, Room 3876, Bureau of Industry and Security, U.S. Department of Commerce, 14th Street and Constitution Avenue, NW., Washington, DC 20230; Fax: (202) 482-5650; E-mail: wdenk@bis.doc.gov; or to E. James Steele, Co-chair, National Defense Stockpile Market Impact Committee, Office of Bilateral Trade Affairs, Bureau of Economic and Business Affairs, U.S. Department of State, Fax: (202) 647-8758; E-mail: steeleej2@state.gov.

FOR FURTHER INFORMATION CONTACT: Eddy Aparicio, Office of Strategic Industries and Economic Security, Bureau of Industry and Security, U.S. Department of Commerce, telephone: (202) 482-8234; e-mail: eaparici@bis.doc.gov.

SUPPLEMENTARY INFORMATION: Under the authority of the Strategic and Critical Materials Stock Piling Act of 1979, as amended, (50 U.S.C. 98 et seq.), the Department of Defense (“DOD”), as National Defense Stockpile Manager, maintains a stockpile of strategic and critical materials to supply the military, industrial, and essential civilian needs of the United States for national defense. Section 3314 of the Fiscal Year (“FY”) 1993 National Defense Authorization Act (“NDAA”) (50 U.S.C. 98h-1) formally established a Market Impact Committee (“the Committee”) to “advise the National Defense Stockpile Manager on the projected domestic and foreign economic effects of all acquisitions and disposals of materials from the stockpile * * *.” The Committee must also balance market impact concerns with the statutory requirement to protect the Government against avoidable loss.

The Committee is comprised of representatives from the Departments of Commerce, State, Agriculture, Defense, Energy, Interior, Treasury, and Homeland Security, and is co-chaired by the Departments of Commerce and State. The FY 1993 NDAA directs the Committee to “consult from time to time with representatives of producers, processors and consumers of the types of materials stored in the stockpile.”

The National Defense Stockpile Administrator is proposing revisions of the previously approved FY 2006 Annual Materials Plan (“AMP”) quantities for three materials, (1) Chromium Metal, from the previously approved 500 short tons to the newly proposed 1000 short tons, (2) Ferrochromium, from the previously approved 110,000 short tons to the newly proposed 150,000 short tons, and lastly (3) Tungsten ores and concentrates from the previously approved 5,000,000 pounds to the newly proposed 20,000,000 pounds. The Committee is seeking public comments on the potential market impact of the sale of these three materials at the newly proposed levels for the FY 2006 AMP.

The AMP quantities are not targets for either sale or disposal. They are only a statement of the proposed maximum disposal quantity of each listed material that may be sold in a particular fiscal year. The quantity of each material that will actually be offered for sale will depend on the market for the material at the time of the offering as well as on the quantity of each material approved for disposal by Congress.

The Committee requests that interested parties provide written comments, supporting data and documentation, and any other relevant information on the potential market impact of the sale of these commodities. Although comments in response to this Notice must be received by June 27, 2005, to ensure full consideration by the Committee, interested parties are encouraged to submit comments and supporting information at any time thereafter to keep the Committee informed as to the market impact of the sale of these commodities. Public comments are an important element of the Committee's market impact review process.

Public comments received will be made available at the Department of Commerce for public inspection and copying. Anyone submitting business confidential information should clearly identify the business confidential portion of the submission and also provide a non-confidential submission that can be placed in the public record. The Committee will seek to protect such information to the extent permitted by law.

The records related to this Notice will be made accessible in accordance with the regulations published in Part 4 of Title 15 of the Code of Federal Regulations (15 CFR 4.1, et seq.). Specifically, the Bureau of Industry and Security's Freedom of Information Act (FOIA) reading room is located on its web page found at http://www.bis.doc.gov/foia/default.htm. Copies of the public comments received will be maintained on the website. If requesters cannot access the web site, they may call (202) 482-2165 for assistance.

Dated: May 24, 2005.
Matthew S. Borman,
Deputy Assistant Secretary for Export Administration.

[FR Doc. 05-10617 Filed 5-26-05; 8:45 am]

BILLING CODE 3510-33-P